FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 012470-001.

Title: COSCO SHIPPING/PIL Slot Exchange Agreement—PNW/PSW.

Parties: COSCO Shipping Co., Ltd. and Pacific International Lines (PTE) Ltd.

Filing Party: Eric Jeffrey; Nixon Peabody LLP; 799 9th Street NW, Suite 500; Washington, DC 20001.

Synopsis: The amendment adds two services to the exchange, revises some of the allocations, and updates the termination date of the Agreement.

Agreement No.: 011539-021.

Title: HLAG/NYK/MSC Vessel Sharing Agreement.

Parties: Hapag-Lloyd AG; MSC Mediterranean Shipping Company SA; and Ocean Network Express Pte. Ltd.

Filing Party: Wayne Rohde; Cozen O'Connor; 1200 Nineteenth Street NW, Washington, DC 20036.

Synopsis: The Amendment revises the Agreement to provide for the transition that will occur following the combination of the container liner operations of Kawasaki Kisen Kaisha, Ltd.; Mitsui O.S.K. Lines, Ltd.; and Nippon Yusen Kaisha into a new company known as Ocean Network Express Pte. Ltd. effective April 1, 2018. Accordingly, Ocean Network Express Pte. Ltd. is added as a party. In addition, Companhia Libra de Navegacao is deleted as a party to the Agreement. The parties request expedited review.

Dated: March 23, 2018.
Rachel E. Dickon,
Secretary.

[FR Doc. 2018-06217 Filed 3-27-18; 8:45 am]

BILLING CODE 6731-AA-01-P